DEPARTMENT OF JUSTICE

Federal Bureau of Investigation

Meeting of the Compact Council for the National Crime Prevention and Privacy Compact

AGENCY: Federal Bureau of Investigation, Justice.

ACTION: Meeting notice.

SUMMARY: The purpose of this notice is to announce a meeting of the Compact Council created by the National Crime Prevention and Privacy Compact Act of 1998 (Compact). Thus, far, the Federal government and eight states are parties to the Compact which governs the exchange of criminal history records for licensing, employment, and similar purposes. The Compact also provides a legal framework for the establishment of a cooperative Federal-state system to exchange such records.

Matters for discussions are expected to include: (1) Discussion of rules and procedures to gain compliance with Compact record screening requirements, (2) State audit/sanctions criteria, (3) Compact Council Sanctions Committee report, (4) Interpretations of the Compact requirement for fingerprints to accompany record requests for noncriminal justice purposes, (5) The Compact Council's authority over Public Law 92-544, and (6) Proposed amendments to the National Crime Protection Act.

The meeting will be open to the public on a first-come, first-seated basis. Any member of the public wishing to file a written statement with the Compact Council or wishing to address this session of the Compact Council should notify Mr. Emmet A. Rathbun at (304) 625-2720, at least 24 hours prior to the start of the session. The notification should contain the requestor's name and corporate designation, consumer affiliation, or government designation, along with a short statement describing the topic to be addressed, and the time needed for the presentation. Requestors will ordinarily be allowed up to 15 minutes to present a topic.

Dates and Times: The Compact Council will meet in open session from 9 a.m. until 5 p.m. on October 10-11, 2000.

ADDRESSES: The meeting will take place at the Omni Shoreham Hotel, 2500 Calvert Street, NW, Washington, DC, telephone (202) 234-0700.

FOR FURTHER INFORMATION CONTACT: Inquiries may be addressed to Mr. Emmet A. Rathbun, Unit Chief, Programs Development Section, CJIS Division, FBI, 1000 Custer Hollow Road, Clarksburg, West Virginia 26306-0147, telephone (304) 625-2720, facsimile (304) 625-5388.

Dated: September 7, 2000.
Thomas E. Bush, III,
Section Chief, Programs Development Section, Federal Bureau of Investigation.

[FR Doc. 00-23865 Filed 9-15-00; 8:45 am]

BILLING CODE 4410-02-M